DEPARTMENT OF HOMELAND SECURITY

Coast Guard

[Docket No. USCG-2014-0911]

Recreational Boating Safety Grants for Nonprofit Organizations

AGENCY: Coast Guard, DHS.

ACTION: Notice; request for comments.

SUMMARY: The Coast Guard proposes several possible “areas of interest” for which fiscal year (FY) 2015 national nonprofit organization grants could be awarded, and requests public comments on which areas the Coast Guard should select.

DATES: Comments must be submitted to the online docket via http://www.regulations.gov, or reach the Docket Management Facility, on or before October 28, 2014.

ADDRESSES: Submit comments using one of the listed methods, and see SUPPLEMENTARY INFORMATION for more information on public comments.

• Online— http://www.regulations.gov following Web site instructions.

• Fax—202-372-1932.

• Mail or hand deliver—Docket Management Facility (CG-BSX-24), U.S. Coast Guard, Room 4M24-14, 2703 Martin Luther King Jr. Ave. SE., Washington, DC 20593-7501. Hours for hand delivery are 9 a.m. to 5 p.m., Monday through Friday, except Federal holidays (telephone 202-372-1060). To be sure someone is there to help you, please call before coming.

FOR FURTHER INFORMATION CONTACT: For information about this document call or email Carlin Hertz, Nonprofit Grants Coordinator; 202-372-1060, carlin.r.hertz@uscg.mil. For information about viewing or submitting material to the docket, call Cheryl Collins, Program Manager, Docket Operations, telephone 202-366-9826, toll free 1-800-647-5527.

SUPPLEMENTARY INFORMATION:

Public Participation and Comments

We encourage you to comment or submit relevant material in response to this notice. Submissions will be shared with members of the National Boating Safety Advisory Committee (NBSAC), a group that consists of members of the public who advise the Coast Guard on boating safety, and who operate in compliance with the Federal Advisory Committee Act. The next NBSAC meeting will occur on November 6, 2014. NBSAC may recommend the areas of interest that should be the focus of Coast Guard boating safety grants to nonprofit organizations in FY 2015. Minutes of the November meeting will be posted on NBSAC's Web site, http://homeport.uscg.mil/NBSAC.

Mark your submission with docket number USCG-2014-0911 and explain your reasons for any suggestion or recommendation. Provide personal contact information so that we can contact you if we have questions regarding your comments; but note that all comments will be posted to the online docket without change and that any personal information you include can be searchable online (see the Federal Register Privacy Act notice regarding our public dockets, 73 FR 3316, Jan. 17, 2008).

Mailed or hand-delivered comments should be in an unbound 8½ x 11 inch format suitable for reproduction. The Docket Management Facility will acknowledge receipt of mailed comments if you enclose a stamped, self-addressed postcard or envelope with your submission.

Documents mentioned in this notice and all public comments, are in our online docket at http://www.regulations.gov and can be viewed by following the Web site's instructions. You can also view the docket at the Docket Management Facility (see the mailing address under ADDRESSES) between 9 a.m. and 5 p.m., Monday through Friday, except Federal holidays.

Discussion

This notice is issued under the authority of, but is not required by, 46 U.S.C. 13102. It concerns the annual recreational boating safety grants that the Coast Guard issues to nonprofit organizations. We have not issued such a notice in previous years, and, depending on the public response to this year's notice, we may or may not issue similar notices in future years.

The Coast Guard's national recreational boating safety program aims to reduce accidents, injuries and deaths on America's waterways and to facilitate safe enjoyable boating. It promotes greater uniformity among States and localities in boating safety laws, enforcement, and administration. The program also encourages boating safety activity by nonprofit organizations, and each year makes grants to such organizations. This notice discusses eight possible areas of interest for which grants might be awarded in FY 2015. We invite public comments on these eight areas or others that the public feels we should address. Comments can discuss environmental or other concerns you have about a possible area of interest, and can include or cite relevant information or data.

The following possible areas of interest for FY 2015 are intended to support boating safety outreach strategies and goals that we have developed in consultation with NBSAC. For each possible area, grantees would need to develop performance metrics to demonstrate their success, and report to the Coast Guard on their accomplishments. For each area, we may award grants to multiple applicants. We invite your comments on each of these, and to suggest other possible areas of interest we should consider.

1. Year-Round Safe Boating Campaign. The campaign would function nationally, throughout the year, be coordinated with other safety initiatives and media events, and would—

• Align with the National Recreational Boating Safety Strategic Plan, particularly Objective 2: Boating Safety Outreach

• Target specific boating safety topics and specific boater market segments;

• Reach boaters at the local level;

• Promote the RBS Program's “Boat Responsibly” brand;

• Educate boaters about the consequences of drinking alcohol, taking drugs, or other irresponsible behavior on the water;

• Educate boaters about reporting boating accidents;

• Stress the importance of wearing life jackets and getting boater safety training; and

• Emphasize that boat operators are responsible for their own safety and that of their passengers.

2. Outreach and Awareness Conference. This possible area of interest would use a conference instead of a year-round campaign to focus on the topics discussed under the first possible area of interest, in support of the National Recreational Boating Safety Strategic Plan's Objective 2—Boating Safety Outreach. Conference organizers must focus on professional development opportunities for conference participants. The conference must include a session for grant recipients to give brief reports on completed grant projects and on plans for using new Coast Guard grants. Three to six months after the conference, the organizers must survey participants on the long term impacts of the conference and include survey results in their final report.

3. Standardize Statutes and Regulations. In this possible area of interest, the grantee would develop programs to achieve measurable standardization and reciprocity among State boating safety statutes and regulations and how they are administered and enforced, especially with respect to accident reporting, boater education, and life jacket wear requirements. This standardization should be compatible with other State boating safety efforts and promote RBS program effectiveness, the use of Coast Guard-approved boater education programs, and improved administration of Coast Guard-approved vessel numbering and accident reporting systems. The grantee's final report must include an updated comprehensive guide to State recreational boating safety laws and regulations.

4. Accident Investigation Seminars. In this possible area of interest, the grantee would develop a Coast Guard-approved curriculum and materials for seminars for Federal and State recreational boating accident investigators in support of the National Recreational Boating Safety Strategic Plan's Objective 9—Boating Accident Reporting. The curriculum must cover the requirements of 46 U.S.C. 6102 and 33 CFR parts 173 subpart C, part 174 subparts C & D (in particular the accident-reporting system administration requirements of 33 CFR 174.103), and part 179. Between four and eight 60-student regional seminars would be required, as well as between two and four advanced courses at the National Transportation Safety Board Training Facility in Ashburn, Virginia, or some other appropriate location. Three 20-student regional train-the-trainer seminars would also be required. Seminar locations must be approved by the Coast Guard. Each seminar would reserve at least four places for Coast Guard marine investigators to be assigned by the Coast Guard. Each regional seminar must cover an overview of recreational boat accident investigations, witness interviews, collision dynamics, evidence collection and preservation, diagramming, and report writing with an emphasis on adherence to definitions and detail in the accident narrative. The advanced seminars must include instruction in the investigation of video-simulated accidents with actual recreational boats used as training aids.

5. Life Jacket Wear. The grantee in this possible area of interest would provide reliable estimates of nationwide recreational boater life jacket wear rates. This estimate will directly address the National Recreational Boating Safety Strategic Plan's Strategy 4.1—Track and Evaluate Life Jacket Wear Rates. Estimates could be developed on an annual or biennial basis, using paid or volunteer observers, and must be based on actual observation of a representative sample of boaters on high-use lakes, rivers, and bays. Methods for developing estimates must be replicable from year to year and must be able to collect data by number, type, length, operation, and activity of boats and by boater age and gender.

6. Voluntary Standards Development. The grantee in this possible area of interest would develop and carry out a program to promote the development of technically sound voluntary standards for building recreational boats. Development of these standards will address the National Recreational Boating Safety Strategic Plan's Strategy 7.3—Manufacturer Outreach. The standards must help reduce accidents in which stability, speed, operator inattention, and navigation lights are factors. For example, standards could be developed for labeling flybridge capacity or horsepower rating, or for minimizing operator distraction, or for determining the effects of underwater or decorative lighting.

7. Safety Training for Urban Youth. The grantee in this possible area of interest would build a sustainable network of training providers for urban youth, who in the past 10 years, according to the Centers for Disease Control and Prevention, have been involved in the most water-based fatalities. This effort must support Objectives 2 and 3 of the National Recreational Boating Safety Program Strategic Plan—Boating Safety Outreach and Advanced and/or On the Water, Skills Based Boating Education. Training should provide structured, engaging, in-depth opportunities for learning basic boating safety and for practicing on-the-water boating safety skills and must promote the “Boat Responsibly” brand.

8. “Boating Under the Influence” (BUI) Detection and Enforcement. The grantee in this possible area of interest would develop and conduct train-the-trainer and BUI detection and enforcement training courses for State and local marine patrol officers, Coast Guard boarding officers and others. The goal of the training would be to give students the knowledge and skills they need to deter recreational boater alcohol use and alcohol-related accidents. These courses will directly address National Recreational Boating Safety Strategic Plan Strategy 6.2, Train marine law enforcement officers in Boating Under the Influence and Strategy 6.3, Expand nationwide use of the validated Standardized Field Sobriety Tests (SFST).

Dated: October 1, 2014.
Jonathan C. Burton,
Captain, Coast Guard, Director of Inspections and Compliance.

[FR Doc. 2014-23807 Filed 10-6-14; 8:45 am]

BILLING CODE 9110-04-P